DEPARTMENT OF DEFENSE

Department of the Navy

Notice of Public Meetings for the Naval Air Station Key West Airfield Operations Draft Environmental Impact Statement

AGENCY: Department of the Navy, DoD.

ACTION: Notice.

SUMMARY: Pursuant to Section 102(2)(c) of the National Environmental Policy Act of 1969 and regulations implemented by the Council on Environmental Quality Regulations (40 Code of Federal Regulations parts 1500-1508), the Department of the Navy (DoN) has prepared and filed with the U.S. Environmental Protection Agency a Draft Environmental Impact Statement (EIS) evaluating the potential environmental effects associated with supporting and conducting continued airfield operations at Naval Air Station (NAS) Key West. Specifically, the Draft EIS addresses the environmental effects of maintaining current/baseline training operations, supporting airfield operations by new types of aircraft, and modifying airfield operations as necessary in support of the Fleet Response Training Plan.

With the filing of the Draft EIS, the DoN is initiating a 45-day public comment period beginning on June 29, 2012 and ending on August 13, 2012. During this period, the DoN will conduct two public meetings to receive oral and written comments on the Draft EIS. This notice announces the dates and locations of the public meetings and provides supplementary information about the environmental planning effort.

Dates and Addresses: Public information and comment meetings will be held in Key West, Florida between 5 p.m. and 8 p.m. on the following dates and at the following locations:

1. Wednesday, August 1, 2012, Doubletree Grand Key Resort Conference Room, 3990 South Roosevelt Boulevard, Key West, Florida 33040.

2. Thursday, August 2, 2012, Tennessee Williams Theater at Florida Keys Community College, 5901 College Road, Key West (Stock Island), Florida.

Federal, state, and local agencies and officials, and interested groups and individuals, are encouraged to provide comments in person at the public meetings or in writing anytime during the public comment period. At the public meetings, attendees will be able to submit comments orally or in writing. Equal weight will be given to oral and written statements. Comments may also be submitted via the U.S. Postal Service to Naval Facilities Engineering Command Southeast, NAS Key West Air Operations EIS Project Manager, P.O. Box 30, Building 903, NAS Jacksonville, FL 32212 or electronically via the project Web site (http://www.keywesteis.com). All statements, oral or written, submitted during the public review period will become part of the public record on the Draft EIS and will be responded to in the Final EIS. All written comments must be post marked or received (online) by August 13, 2012, to ensure they become part of the official record.

FOR FURTHER INFORMATION CONTACT: Naval Facilities Engineering Command Southeast, NAS Key West Air Operations EIS Project Manager, P.O. Box 30, Building 903, NAS Jacksonville, FL 32212.

SUPPLEMENTARY INFORMATION: A Notice of Intent to prepare this Draft EIS was published in the Federal Register on May 12, 2010 (75 FR 26739). The DoN's proposed action is to support and conduct aircraft training operations and capabilities at NAS Key West by maintaining current/baseline training operations, supporting airfield operations by introducing new types of aircraft, and modifying airfield operations as necessary in support of the Fleet Response Training Plan. The purpose of the proposed action is to sustain fleet training at and associated with NAS Key West airfield for Navy tactical aviation and for use by other Department of Defense and federal agencies. The proposed action is needed in order to maintain the level of readiness mandated in Title 10 United States Code Part 5062.

The Draft EIS evaluates the potential environmental effects of the No Action Alternative and three action alternatives. Under the No Action Alternative, annual airfield operations would continue to occur at a level similar to present (approximately 47,500 annual operations); support of existing capabilities would continue; no new aircraft would be introduced; and, no facilities would be altered to support next generation aircraft training operations. Under Alternative 1, annual airfield operations would continue at a level similar to present (approximately 47,500 annual operations), plus legacy aircraft would gradually transition to next generation aircraft and existing facilities would be altered to meet requirements for next generation aircraft. Alternative 2 would be the same as Alternative 1, plus provide the flexibility to accommodate additional carrier air wing Field Carrier Landing Practice (FCLP) training at NAS Key West when primary carrier air wing training locations around the United States are unavailable. Additional carrier air wing FCLP operations would vary annually based on availability of the primary training locations, but could total up to 4,500 additional operations (2,250 patterns). Total annual airfield operations under Alternative 2 could equal approximately 52,000 operations. Alternative 3 would be the same as Alternative 2, plus provide operational capacity and flexibility to effectively meet DoN training requirements under the Fleet Response Training Plan with an approximate ten percent increase in other annual airfield operations. Total annual airfield operations under this alternative could equal approximately 57,000 operations. A preferred alternative has not been selected or identified by the DoN. The DoN seeks comment from the public or interested parties regarding selection of a preferred alternative.

Environmental resource topics evaluated in the Draft EIS include noise, air quality, safety, land use, transportation, infrastructure, socioeconomics (including environmental justice and protection of children), cultural resources, geology, topography, and soils, water resources, biological resources, and hazardous materials, hazardous waste, toxic substances, and contaminated sites.

The Draft EIS was distributed to Federal, state, and local agencies, elected officials, and other interested individuals and organizations. Copies of the Draft EIS are available for public review at the following libraries:

1. Key West Public Library, 700 Fleming Street, Key West, Florida 33040.

2. Florida Keys Community College Library, 5901 College Road, Building A (2nd Floor), Key West, Florida 33040.

Copies of the Draft EIS are available for electronic viewing or download at http://www.keywesteis.com. A paper copy of the Executive Summary or a single compact disc of the Draft EIS will be made available upon written request by contacting: Naval Facilities Engineering Command Southeast, NAS Key West Air Operations EIS Project Manager, P.O. Box 30, Bldg 903, NAS Jacksonville, Florida 32212.

Dated: June 26, 2012.
L.R. Almand,
Judge Advocate General's Corps, U.S. Navy, Alternate Federal Register Liaison Officer.

[FR Doc. 2012-16326 Filed 7-2-12; 8:45 am]

BILLING CODE 3810-FF-P